DEPARTMENT OF TRANSPORTATION

Federal Aviation Administration

[Docket No. FAA-2021-1159]

Deadline for Notification of Intent To Use the Airport Improvement Program (AIP) Primary, Cargo, and Nonprimary Entitlement Funds Available to Date for Fiscal Year 2022.

AGENCY: Federal Aviation Administration (FAA), DOT.

ACTION: Federal Register notice.

SUMMARY: This action announces February 15, 2022, as the deadline for each airport sponsor to notify the FAA if it will use its Fiscal Year (FY) 2022 entitlement funds to accomplish Airport Improvement Program (AIP) eligible projects. Each sponsor has previously identified to the FAA such projects through the Airports Capital Improvement Plan process. This action further announces April 11, 2022, as the deadline for an airport sponsor to submit a final grant application, based on bids, for grants that will be funded with FY 2022 entitlements funds only.

FOR FURTHER INFORMATION CONTACT: David F. Cushing, Manager, Airports Financial Assistance Division, APP-500, at (202) 267-8827

SUPPLEMENTARY INFORMATION: Title 49 U.S.C. 47105(f) provides that the sponsor of an airport for which entitlement funds are apportioned shall notify the Secretary, by such time and in a form as prescribed by the Secretary, of the airport sponsor's intent to submit a grant application for its available entitlement funds. Therefore, the FAA is hereby notifying such airport sponsors of the steps required to ensure that the FAA has sufficient time to carry over and convert remaining entitlement funds.

The AIP grant program is authorized by Public Law 115-254, the “FAA Reauthorization Act of 2018,” enacted on October 5, 2018, which permits the FAA to make grants for planning and airport development and airport noise compatibility under the AIP through September 30, 2023. The funds allocated to the FAA to fund the AIP grant program are appropriated by an annual Appropriations Act. Funding for the FY 2022 AIP will be contingent upon the amounts appropriated by Congress and any requirements included in an annual Appropriations Act, once enacted. Apportioned funds will be subject to allocation formulas prescribed by 49 U.S.C. 47114 and any other applicable legislative text.

This notice applies only to sponsors of airports that have entitlement funds appropriated for FY 2022 to use on eligible and justified projects. State aviation agencies participating in the FAA's State Block Grant Program, as prescribed by 49 U.S.C. 47128, are responsible for notifying the FAA which covered nonprimary airports in their programs will be using their entitlement funds for eligible and justified projects.

An airport sponsor intending to apply for any of its available entitlement funds, including those unused, but still available in accordance with 49 U.S.C. 47117 from prior years, must notify the FAA of its intent to submit a grant application by 12 p.m. prevailing local time on Tuesday, February 15, 2022.

This notice must be in writing and stipulate the total amount the sponsor intends to use for eligible and justified projects during FY 2022, including those entitlement funds not obligated from prior years that remain available in accordance with 49 U.S.C. 47117 (also known as protected carryover). These notifications are critical to ensure efficient planning and administration of the AIP. The final grant application deadline for entitlement funds only is Monday, April 11, 2022. The final grant application funding requests should be based on bids, not estimates. As prescribed under 49 U.S.C. 47117, the FAA will carryover the remainder of available entitlement funds after June 1, 2022. These funds will not be available again to the airport sponsor until the beginning of FY 2023. Dates are subject to possible adjustment based on future legislation. As of the publication of this notice, past appropriations for the FAA expired on September 30, 2021, and the FAA is currently under a Continuing Resolution (CR) until February 18, 2022. However, FAA authorizing legislation expires on September 30, 2023 and the FAA will continue its planning process during the current and any future CR.

The FAA has determined these deadlines will expedite and facilitate the FY 2022 grant-making process.

Issued in Washington, DC, on December 15, 2021.
Robert John Craven,
Director, Office of Airport Planning and Programming.

[FR Doc. 2021-27533 Filed 12-20-21; 8:45 am]

BILLING CODE 4910-13-P